DEPARTMENT OF VETERANS AFFAIRS

Voluntary Service National Advisory Committee; Notice of Meeting

The Department of Veterans Affairs (VA) gives notice under Public Law 92-463 (Federal Advisory Committee Act) that the Executive Committee of the Department of Veterans Affairs Voluntary Service (VAVS) National Advisory Committee (NAC) will meet October 8-9, 2010, at Hyatt Regency Cincinnati, 151 West 5th Street, Cincinnati, Ohio. The sessions will begin at 8 a.m. each day and end at 4:30 p.m. on October 8, and at noon on October 9, 2010. The meeting is open to the public.

The Committee, comprised of sixty-four national voluntary organizations, advises the Secretary, through the Under Secretary for Health, on the coordination and promotion of volunteer activities within VA health care facilities. The Executive Committee consists of twenty representatives from the NAC member organizations.

On October 8, agenda topics will include: NAC goals and objectives; review of minutes from the May 2010 NAC annual meeting; VAVS update on the Voluntary Service program's activities; Parke Board update; evaluations of the 2010 NAC annual meeting; and plans for 2011 NAC annual meeting (to include workshops and plenary sessions).

On October 9, agenda topics will include: Recommendations from the 2009 and 2010 NAC annual meetings; subcommittee reports; review of standard operating procedure revisions; 2012 NAC annual meeting plans; and any new business.

No time will be allocated at this meeting for receiving oral presentations from the public. However, interested persons may either attend or file statements with the Committee. Written statements may be filed either before the meeting or within 10 days after the meeting and addressed to: Ms. Laura Balun, Designated Federal Officer, Voluntary Service Office (10C2), Department of Veterans Affairs, 810 Vermont Avenue, NW., Washington, DC 20420, or e-mail to laura.balum@va.gov. Any member of the public seeking additional information should contact Ms. Balum at (202) 461-7300.

Dated: August 31, 2010.
By Direction of the Secretary.
Vivian Drake,
Acting Committee Management Officer.

[FR Doc. 2010-22148 Filed 9-3-10; 8:45 am]

BILLING CODE P